OFFICE OF GOVERNMENT ETHICS

Final OGE Information Quality Guidelines

AGENCY: Office of Government Ethics (OGE).

ACTION: Notice.

SUMMARY: The Office of Government Ethics announces that the Office of Management and Budget (OMB) has completed its review of OGE's Information Quality Guidelines. The Office of Government Ethics' final Information Quality Guidelines are now posted on the OGE Web site.

FOR FURTHER INFORMATION CONTACT: Mary T. Donovan at the Office of Government Ethics, Suite 500, 1201 New York Avenue, NW., Washington, DC 20005-3917; OGE Internet e-mail: usoge@oge.gov (for e-mail messages the subject line should include the following reference—“Final OGE Information Quality Guidelines”); telephone: (202) 208-8000, ext. 1185; TDD 202-208-8025; FAX: 202-208-8037. A copy of the final guidelines may be obtained, without charge, by contacting Ms. Donovan.

SUPPLEMENTARY INFORMATION: Section 515 of the Treasury & General Government Appropriations Act for FY 2001 (Public Law No. 106-554 requires each Federal agency to publish guidelines for ensuring and maximizing the quality, objectivity, utility, and integrity of the information it disseminates to the public. Agency guidelines must be based on Governmentwide guidelines issued by OMB. In compliance with this statutory requirement, OMB has completed its final review of OGE's Information Quality Guidelines and OGE has posted its final guidelines on the OGE Internet Web site (http://www.usoge.gov). The guidelines, effective October 1, 2002, describe OGE's procedures for ensuring the quality of information that it disseminates to the public and the procedures by which an affected person could obtain correction of information disseminated by OGE that did not comply with the guidelines.

On July 31, 2002, OGE published a notice of the posting of its draft information quality guidelines on OGE's Web site and requested public comment. See 67 FR 49694-49695. The Office of Government Ethics received one letter of general comments. In response to that letter and OMB's final review of the draft guidelines, OGE added language to clarify the effective date of the guidelines once finalized. Furthermore, in response to OMB's final review, OGE inserted language addressing OGE's current comprehensive public comment process, including the separate procedures for commenting on documents published in the Federal Register.

Persons who cannot access the guidelines through the Internet may request a paper or electronic copy by contacting Ms. Donovan at the address, phone number, e-mail address, or FAX number listed above.

Approved: October 1, 2002.
Daniel D. Dunning,
Deputy Director for Administration and Information Management, Office of Government Ethics.

[FR Doc. 02-25461 Filed 10-4-02; 8:45 am]

BILLING CODE 6345-01-P